DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Reporting of Sea Turtle Entanglements in Fixed Gear Fisheries.

OMB Control Number: 0648-0496.

Form Number(s): NA.

Type of Request: Regular submission (extension of a current information collection with revisions).

Number of Respondents: 59.

Average Hours per Response: Telephone calls and written reports, 1 hour; interviews, 30 minutes.

Burden Hours: 99.

Needs and Uses: This notice is for extension, with revisions, of a current information collection.

This collection of information involves sea turtles becoming accidentally entangled in active or discarded fixed fishing gear or marine debris. These entanglements may prevent the recovery of endangered and threatened sea turtle populations. National Marine Fisheries Service (NMFS) Northeast Region (Maine to Virginia) has established the Sea Turtle Disentanglement Network to promote reporting and increase successful disentanglement of sea turtles. This Network is made up of sea turtle stranding network organizations, as well as federal, state, and municipal agencies. NMFS relies on the Network and on opportunistic reports from fishermen and recreational boaters for information about entangled turtles. The information provided will help NMFS better assess the threat of sea turtle entanglement in vertical line from fixed gear fisheries (lobster, whelk/conch, crab, fish trap, gill net), discarded gear and marine debris. Our understanding of the prevalence and nature of sea turtle entanglement in fixed gear fisheries is necessary to ensure sea turtles are being conserved and protected, as mandated by the Endangered Species Act of 1973, as amended (ESA).

Affected Public: Individuals or households; not for profit institutions.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: April 8, 2011.
Gwellnar Banks,
Management Analyst, Office of the Chief Information Officer.

[FR Doc. 2011-8828 Filed 4-12-11; 8:45 am]

BILLING CODE 3510-22-P